INTERNATIONAL TRADE COMMISSION

Sunshine Act Meeting

AGENCY HOLDING THE MEETING: United States International Trade Commission.

TIME AND DATE: February 15, 2000 at 11:00 a.m.

PLACE: Room 101, 500 E Street SW, Washington, DC 20436 Telephone: (202) 205-2000.

STATUS: Open to the public.

MATTERS TO BE CONSIDERED:

1. Agenda for future meeting: none.

2. Minutes.

3. Ratification List.

4. Inv. Nos. 701-TA-302 and 731-TA-454 (Review)(Fresh and Chilled Atlantic Salmon from Norway)—briefing and vote. (The Commission will transmit its determination to the Secretary of Commerce on February 24, 2000.)

5. Outstanding action jackets: none.

In accordance with Commission policy, subject matter listed above, not disposed of at the scheduled meeting, may be carried over to the agenda of the following meeting.

By order of the Commission.
Issued: February 3, 2000.
Donna R. Koehnke,
Secretary.

[FR Doc. 00-3022 Filed 2-4-00; 4:25 pm]

BILLING CODE 7020-02-P